DEPARTMENT OF TRANSPORTATION

Office of the Secretary of Transportation

Requirements for the DOT Data Innovation Challenge

AGENCY: U.S. Department of Transportation, Office of the Secretary of Transportation.

ACTION: Notice .

Authority: 15 U.S.C. 3719 (America COMPETES Act).

Award Approving Official: Anthony Foxx, Secretary of Transportation.

SUMMARY: Informed decision making, based on sound data and analysis is a cornerstone of crafting effective transportation policies and guiding efficient investment decisions with scarce public resources. Web-based tools, visualizations, and mobile applications can help uncover actionable information for making better informed decisions—both by the public and policy makers. This challenge will focus on developing tools to address three areas: (1) Safety, (2) Transportation Access, and (3) Traffic Management and Congestion.

Do you have what it takes to create innovative tools to address our Nation's transportation challenges or revolutionize the way Americans see and understand the transportation system they use every day? The United States Department of Transportation (U.S. DOT) wants to see what you can do!

DATES: Entries must be submitted by 5:00 p.m. on April 30, 2014

FOR FURTHER INFORMATION CONTACT: Stephanie Gidigbi, 202-366-6837, stephanie.gidigbi@dot.gov.

SUPPLEMENTARY INFORMATION: Subject of Challenge Competition: Your challenge is to create a web-based tool, data visualization, mobile app, or other innovative use of technology to address systemic challenges by accessing publicly-available Federal and/or local DOT datasets. The application/tool will help the public and policy makers understand transportation challenges in three main areas:

• Safety—develop tools to address and/or identify safety concerns and challenges

• Transportation Access—develop tools to show how transportation connects people to jobs, school, housing, and community resources

• Traffic Management and Congestion—develop tools to understand and reduce traffic and congestion

Eligibility: The Challenge is open only to: (1) Persons who are at least eighteen (18) years old at the time of entry who are either citizens or legal residents of the United States; (2) teams of eligible individuals; and (3) corporations or organizations, including nonprofit organizations, that are incorporated in the United States (including the District of Columbia, Puerto Rico, the U.S. Virgin Islands, Guam, and American Samoa). Individuals submitting entries on behalf of corporations, nonprofit or groups of individuals (such as an academic class or other team) must meet the eligibility requirements for individual contestants. An individual may join more than one team, corporation or nonprofit organization. Candidates may not be a Federal entity or Federal employee acting within the scope of employment. Employees of the U.S. Department of Transportation are not eligible. The Challenge is subject to all applicable federal laws and regulations. Participation constitutes Contestant's full and unconditional agreement to these Official Rules and administrative decisions, which are final and binding in all matters related to the Challenge. Eligibility for a prize award is contingent upon fulfilling all requirements set forth herein.

The following additional rules apply:

1. All decisions by the U.S. DOT are final and binding in all matters related to the challenge. Potential winners must continue to comply with all terms and conditions of these Official Rules and winning is contingent upon fulfilling all requirements. The potential winners will be notified by email, telephone, or mail after the date of the judging. The potential winner(s) will be required to sign and return to U.S. DOT, within ten (10) days of the date notice is sent, an Affidavit of Eligibility and Liability/Publicity Release (except where prohibited) in order to claim any recognition. In the event that a potential winner of a Challenge recognition is disqualified for any reason, U.S. DOT may award the applicable recognition to an alternate winner. Submission Rights. Each Contestant grants to the U.S. DOT and others acting on behalf of the U.S. DOT, a royalty-free non-exclusive worldwide license to use, copy for use, distribute, perform publicly, and display publicly all parts of the Submission for the purposes of the Challenge until one year after the announcement of winners. This license includes posting or linking to the Submission on the official U.S. DOT Web site and making it available for use by the public.

2. Entry Conditions and Release. By entering, each Contestant agrees to: (a) Comply with and be bound by these Official Rules and the decisions of the U.S. DOT and/or the Challenge judges which are binding and final in all matters relating to this Challenge; (b) release and hold harmless the U.S. DOT and the Federal Government and its related entities, including any other organizations responsible for sponsoring, fulfilling, administering, advertising or promoting the Challenge, and all of their respective past and present officers, directors, employees, agents and representatives (collectively, the “Released Parties”) from and against any and all claims, expenses, and liability, whether direct or indirect, including but not limited to negligence and damages of any kind to persons and property, including but not limited to invasion of privacy (under appropriation, intrusion, public disclosure of private facts, false light in the public eye or other legal theory), defamation, slander, libel, violation of right of publicity, infringement of trademark, copyright or other intellectual property rights, property damage, a third party's unauthorized use of the Submission beyond the one-year license granted in the Submission rights, loss of profits, or death or personal injury arising out of or relating to a Contestant's entry, creation of an entry or submission of an entry, participation in the Challenge, acceptance or use or misuse of prize (including any travel or activity related thereto) and/or the broadcast, transmission, performance, exploitation or use of entry; and, (c) indemnify, defend and hold harmless the U.S. DOT against any and all claims, expenses, and liabilities (including reasonable attorney's fees) arising out of or relating to a Contestant's participation in the Challenge and/or Contestant's acceptance, use or misuse of a prize or recognition.

3. Publicity. Except where prohibited, participation in the Challenge constitutes Contestant's consent to U.S. DOT's and its agents' use of Contestant's name, likeness, photograph, voice, opinions, and/or hometown and state for promotional purposes in any media, worldwide, without further payment or consideration.

4. General Conditions. The U.S. DOT reserves the right to cancel, suspend and/or modify the Challenge, or any part of it for any reason, including if any fraud, technical failures or any other factor beyond the U.S. DOT's reasonable control impairs the integrity or proper functioning of the Challenge, as determined by the U.S. DOT in its sole discretion. The U.S. DOT reserves the right, in its sole discretion, to disqualify any individual or Contestant it finds to be tampering with the entry process or the operation of the Challenge or to be acting in violation of these Official Rules or any other promotion or in a disruptive manner. Any attempt by any person to deliberately undermine the legitimate operation of the Challenge may be in violation of criminal and civil law, and, should such an attempt be made, the U.S. DOT reserves the right to seek damages from any such person to the fullest extent permitted by law. The U.S. DOT's failure to enforce any term of these Official Rules shall not constitute a waiver of that provision. The U.S. DOT is not responsible for, nor are they required to count, incomplete, late, misdirected, damaged, unlawful or illicit votes, including those secured through payment, votes achieved through automated means or by registering more than one email account and name, using another Contestant's email account and name, as well as those lost for technical reasons or otherwise.

5. Limitations of Liability. The Released Parties are not responsible for: (1) Any incorrect or inaccurate information, whether caused by Contestants, printing errors or by any of the equipment or programming associated with or utilized in the Challenge; (2) technical failures of any kind, including, but not limited to malfunctions, interruptions, or disconnections in phone lines or network hardware or software; (3) unauthorized human intervention in any part of the entry process or the Challenge; (4) technical or human error which may occur in the administration of the Challenge or the processing of entries; or, (5) any injury or damage to persons or property which may be caused, directly or indirectly, in whole or in part, from Contestant's participation in the Challenge or receipt or use or misuse of any prize. If for any reason a Contestant's entry is confirmed to have been erroneously deleted, lost, or otherwise destroyed or corrupted, Contestant's sole remedy is another entry in the Challenge. No more than the stated number of prizes will be awarded.

6. Original Work, Plagiarism, and Copyright. Contestant(s) warrants that he or she or they is/are the sole author and owner of the Submission, and that the Submission is wholly original with the Contestant, and that it does not infringe any copyright or any other rights of any third party of which Contestant is aware.

7. PRIVACY. Any personal information provided to the U.S. DOT and ChallengePost by registering or submitting through the U.S. DOT electronic mail system is used only to communicate on matters regarding the submission and/or the Challenge. Information is not collected for commercial marketing. Candidates may not be a Federal entity or Federal employee acting within the scope of employment.

At least one individual from each team may travel to Washington, DC, to accept the award. Only the individual who makes the submission on behalf of an organization may receive the award. The submitting individual may designate, within 10 business days following notification of award, another person to whom to re-direct the award.

Submission Requirements

Your submission is due by 5:00 p.m. ET, on Wednesday, April 30, 2014. Your submission must use publicly available data. You must not provide any information that is a trade secret or confidential business information. Federal DOT datasets are available at http://www.dot.gov/data and other Federal data can be found at http://catalog.data.gov. In addition, some state and local data can be found at http://states.data.gov, http://counties.data.gov, or http://cities.data.gov. You may use any other publically available data sets as well.

A submission package will consist of the following:

A full description of the application, device, product, or visualization tool (the “Concept”) that addresses at least one of the three challenges outlined above for this specific challenge (Safety, Transportation Access, Traffic Management and Congestion) with elements outlined in the Submission Content Below (not to exceed 6000 words):

i. Description of the user or users;

ii. Explanation of the Concept's value to the user and society as a whole;

iii. Description of the conditions under which the Concept is useful;

iv. Description of the ways in which the Concept is innovative: how it differs from past and current practices, technologies, tools and applications;

v. Explanation of the process by which the application or visualization tool would be implemented and widely adopted. Discuss any other risks, costs or challenges in making the utilization and/or adoption of the tools or applications widespread, and how they could be overcome;

vi. Submissions must include a link to a working tool (via the web with a URL or mobile app store) or a video of the tool in action; and should illustrate or otherwise support the Concept described in the Submission Description.

The Submission should also include a summary (not to exceed 650 words, in 12-point Arial normal font, double-spaced, in PDF format) of the solution submitted that discusses:

i. How it meets the judging criteria;

ii. Data sets used to develop the solution; and,

iii. Intended audience/users.

Note: Submissions that do not conform to these requirements may be considered ineligible. This eligibility decision is at the sole discretion of the U.S. DOT. Contestants waive the right to protest. The U.S. DOT makes no warranties to protect proprietary information or trade secrets if they are featured in the submission. It is recommended that entrants consider the content of their submissions prior to making their submittal.

Any elements of the Challenge described in the “details” section of this Challenge and posted on dot.gov are wholly incorporated as part of the rules of this contest.

The Submission must be written in English, and be no longer than 6000 words. Some or all of the submission must be sent to datachallenge@dot.gov with the subject line “Innovation Challenge.” The Submission Summary should be included in the body of the email and must not exceed 650 words.

• Must be in PDF or Microsoft Word format

• Use a font size of no less than 12 points

• Have margins no smaller than 1 inch all around

Submissions may be updated by the submitter until the Challenge Submission Period ends.

Award

Winners will have their innovation featured on the Secretary's FastLane Blog and will receive a letter of recognition from the Secretary. Following the announcement of the award, awardees will be honored by Transportation Secretary Anthony Foxx in a special session where awardees will present their Concept for senior officials from across the U.S. Department of Transportation, Challenge judges, and other members of DOT staff. Outside guests will also be invited to attend. Furthermore, depending upon the quality of submissions and subject to the Federal Acquisitions Regulations, the Department may negotiate licensing for the use of intellectual property developed by selected submission winner(s) beyond the one year royalty-free nonexclusive worldwide license provided under Submission Rights.

Basis Upon Which the Winner Will Be Selected:

Submission Judging

Submissions will be scored in each of four criteria, as listed below.

1. Technical and Operational Feasibility

The successful operation of the proposed application or visualization tool will depend both upon the soundness of the application and tool itself and its relationship to the rest of the transportation system, and the data that is used during its development.

How plausible is it that this Concept could be implemented? What risks or challenges exist, and how could they be overcome?

2. Potential for Widespread Adoption

Widespread adoption of the application and/or visualization tool will depend upon a system of interrelated decisions made by various stakeholders in the transportation network. Stakeholders' incentives toward action must be aligned with their capabilities for adoption to occur. How likely is it that this application or visualization tool would be widely adopted or go viral, if it were developed? What are the challenges facing broad adoption, and how could they be overcome?

3. Innovation

To what degree does the tool present a novel idea or approach?

4. Social Benefit

How much would this idea benefit transportation users or society at large? Emphasis is on improvements to transportation safety, mobility, reliability, accessibility and/or environmental impact.

The Submissions will be judged by a qualified panel selected by the U.S. DOT at its sole discretion. The panel will judge the entire Submission on the judging criteria identified above in order to select five winners. Judges reserve the right to withdraw without advance notice.

Additional Information:

Federal grantees may not use Federal funds to develop COMPETES Act challenge applications.

Federal contractors may not use Federal funds from a contract to develop COMPETES Act challenge applications or to fund efforts in support of a COMPETES Act challenge submission.

Issued On: February 21, 2014
Anthony Foxx,
Secretary of Transportation.

[FR Doc. 2014-04399 Filed 3-7-14; 8:45 am]

BILLING CODE 4910-9X-P